DEPARTMENT OF AGRICULTURE

Submission for OMB Review; Comment Request

September 11, 2019.

The Department of Agriculture has submitted the following information collection requirement(s) to Office of Management and Budget (OMB) for review and clearance under the Paperwork Reduction Act of 1995. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by October 16, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: The Rural eConnectivity Pilot Program (ReConnect Program).

OMB Control Number: 0572-0152.

Summary of Collection: Pursuant to the Pilot Program authorization in the Consolidated Appropriations Act, 2018, Public Law 115-141, 779 (2018), RUS is to conduct a pilot broadband program under the RE Act. Under Section 601(d)(1) of the RE Act applicants are required to submit an application for loans and loan guarantees containing the information that the Secretary shall require, and that the project meet the minimum level of broadband in the service area. Section 601(d)(8) sets out the all of the reporting requirements, and the Pilot Program specifically requires that the Section 601(d)(8) reporting requirements be followed. Additionally, Section 601(h) requires that the Secretary ensure the security of any loan or guarantee.

Need And Use of the Information: On March 23, 2018, Congress passed the Consolidated Appropriations Act 2018 (the FY2018 Appropriations) (Pub. L. 115-141) which established a broadband loan and grant pilot program, the Rural eConnectivity Pilot Program (hereinafter the ReConnect Program). One of the essential goals of the ReConnect Program is to expand broadband service to rural areas without sufficient access to broadband, defined as 10 megabits per second (Mbps) downstream and 1 Mbps upstream. For this purpose, Congress provided RUS with $600 million and expanded its existing authority to make loans and grants. Loans and grants are limited to the costs of the construction, improvement, and acquisition of facilities and equipment for broadband service in eligible communities. The FY2018 Appropriations also authorized technical assistance to assist the agency in expanding needed service to the most rural communities.

Description of Respondents: Not-for-profit institutions; Business or other for-profit; State, local, and Tribal governments.

Number of Respondents: 500.

Frequency Of Responses: Reporting: On occasion.

Total Burden Hours: 156,090.

Kimble Brown,
Departmental Information Collection Clearance Officer.

[FR Doc. 2019-19915 Filed 9-13-19; 8:45 am]

BILLING CODE 3410-15-P